DEPARTMENT OF ENERGY

Federal Energy Regulatory Commission

[Docket No. RP01-386-000]

Williams Gas Pipelines Central, Inc.; Notice of Filing of Cash-Out Report

May 1, 2001.

Take notice that on April 23, 2001, Williams Gas Pipelines Central, Inc. (Williams) tendered for filing, pursuant to Article 9.8(d) of the General Terms and Conditions of its FERC Gas Tariff, its report of net cash out activity.

Williams states that pursuant to the cash-out mechanism contained in Section 9.8(a)(iv) of Williams' tariff, Shippers are given the option of resolving their imbalances by the end of the calendar month following the month in which the imbalance occurred by cashing out such imbalances at 100% of the spot market price applicable to Williams as published in the first issue of Inside FERC's Gas Market Report for the month in which the imbalance occurred. Net monthly imbalances which are not resolved by the end of the second month following the month in which the imbalance occurred and which exceed the tolerance specified in Section 9.8(b) are cashed out at a premium or discount from the spot price according to the schedules set forth in Section 9.8(c).

Williams states that it is filing its report of net cash out activity, which shows net cash out costs to the company of $474,851.98 for the twelve months ended September 30, 2000.

Williams states that a copy of its filing was served on all jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before May 8, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11350 Filed 5-4-01; 8:45 am]

BILLING CODE 6717-01-M